DEPARTMENT OF EDUCATION

Notice of Proposed Information Collection Requests

AGENCY: Department of Education.

SUMMARY: The Secretary of Education requests comments on the Student Aid Report (SAR) that the Secretary proposes to use for the 2010-2011 award year. The SAR is used to notify Free Application for Federal Student Aid (FAFSA) applicants of their eligibility to receive Federal student aid under the student financial assistance programs authorized under Title IV of the Higher Education Act of 1965, as amended, and to provide an opportunity for applicants to correct or update the information they provided on their FAFSA.

DATES: Interested persons are invited to submit comments on or before November 17, 2009.

ADDRESSES: Comments may be submitted electronically through e-mail to mailto:SAR.Comments@ed.gov. Requests for copies of the proposed information collection requests may be accessed from http://edicsweb.ed.gov by selecting the “Browse Pending Collections” link and by clicking on link number 4130. When you access the information collection, click on “Download Attachments” to view. Written requests for information should be addressed to U.S. Department of Education, 400 Maryland Avenue, SW., LBJ, Washington, DC 20202-4537. In addition, interested persons can access this document on the Internet:

(1) Go to IFAP at http://ifap.ed.gov.

(2) Scroll to “Processing Resources”.

(3) Click on “FAFSA and SAR Materials”.

(4) Under “By Award Year Click on 2010-2011”.

(5) Click on 2009-xx-xx-“Draft 2010-2011 Student Aid Report (SAR) and SAR Acknowledgement has been posted to the Federal Register and is available for Public Comment”.

Please note that the free Adobe Acrobat Reader software, version 4.0 or greater, is necessary to view this file. This software can be downloaded for free from Adobe's Web site: http://www.adobe.com.

FOR FURTHER INFORMATION CONTACT: Individuals who use a telecommunications device for the deaf (TDD) may call the Federal Information Relay Service (FIRS) at 1-800-877-8339 between 8 a.m. and 8 p.m. Eastern time, Monday through Friday.

SUPPLEMENTARY INFORMATION: The Secretary is publishing this request for comment under the Provisions of the Paperwork Reduction Act of 1995, 44 U.S.C. 3501 et seq. Under that Act, ED must obtain the review and approval of the Office of Management and Budget (OMB) before it may use a form to collect information. However, under procedures for obtaining approval from OMB, ED must first obtain public comment of the proposed form, and, to obtain that comment, ED must publish this notice in the Federal Register.

In addition to the comments requested above, to accommodate the requirements of the Paperwork Reduction Act, the Secretary is interested in receiving comments with regard to the following matters: (1) Is this collection necessary to the proper functions of the Department, (2) will this information be processed and used in a timely manner, (3) is the estimate of burden accurate, (4) how might the Department enhance the quality, utility, and clarity of the information to be collected, and (5) how might the Department minimize the burden of this collection on the respondents, including through the use of information technology.

Dated: September 15, 2009.
Angela C. Arrington,
IC Clearance Official, Regulatory Information Management Services, Office of Management.

Federal Student Aid

Type of Review: Revision.

Title: Student Aid Report (SAR).

Frequency: Annually.

Affected Public: Individuals.

Annual Reporting and Recordkeeping Hour Burden:

Responses: 21,696,675.

Burden Hours: 6,993,273.

Abstract: The SAR is used to notify Free Application for Federal Student Aid (FAFSA) applicants of their eligibility to receive Federal student aid under the student financial assistance programs authorized under Title IV of the Higher Education Act of 1965, as amended, and to provide an opportunity for applicants to correct or update the information they provided on their FAFSA.

Requests for copies of the proposed information collection request may be accessed from http://edicsweb.ed.gov, by selecting the “Browse Pending Collections” link and by clicking on link number 4130. Written requests for information should be addressed to U.S. Department of Education, 400 Maryland Avenue, SW., LBJ, Washington, DC 20202-4537. Requests may also be electronically mailed to ICDocketMgr@ed.gov or faxed to (202) 401-0920. Please specify the complete title of the information collection when making your request. Comments regarding burden and/or the collection activity requirements should be directed to the e-mail address ICDocketMgr@ed.gov. Individuals who use a telecommunications device for the deaf (TDD) may call the Federal Information Relay Service (FIRS) at 1-800-877-8339 between 8 a.m. and 8 p.m., Eastern time, Monday through Friday.

[FR Doc. E9-22544 Filed 9-17-09; 8:45 am]

BILLING CODE 4000-01-P